DEPARTMENT OF TRANSPORTATION

Research and Innovative Technology Administration

Innovative Techniques for Delivering ITS Learning; Request for Information

AGENCY: Research and Innovative Technology Administration (RITA), U.S. Department of Transportation (USDOT).

ACTION: Notice.

SUMMARY: This notice is a Request for Information (RFI) and comments that will be used to help identify focus areas for innovative techniques for delivering Intelligent Transportation Systems (ITS) learning. Feedback and comments on any aspect of the RFI are welcomed from all interested public, private, and academic entities. While all feedback is welcomed, USDOT is particularly interested in feedback on the questions provided in the last section of this RFI.

RFI Guidelines: Responses to this RFI should be submitted by August 29, 2011. Responses to this RFI should be delivered electronically as an e-mail or as an attachment to an e-mail sent to pcbits@dot.gov.

Responses to this notice are not offers and cannot be accepted by the Government to form a binding contract or issue a grant. Information obtained as a result of this RFI may be used by the government for program planning on a non-attribution basis. If you wish to submit any information under a claim of confidentiality, you should submit via e-mail to the address given below under FOR FURTHER INFORMATION CONTACT, your complete submission, including the information you claim to be confidential commercial information. When you submit information containing information identified as confidential commercial information, you should include a cover letter setting forth the reasons you believe the information qualifies as “confidential commercial information.” (49 CFR 7.13(c)(4) and 7.17) If we receive a request to examine or copy this information, we treat it as any other request under the Freedom of Information Act (5 U.S.C. 552), but we will process the request in accordance with the procedures found in 49 CFR 7.17.

FOR FURTHER INFORMATION CONTACT: For questions about the program discussed herein, contact Mac Lister, ITS Professional Capacity Building (PCB) Program Manager, 1200 New Jersey Avenue, SE., Washington, DC 20590, 202-366-0375, e-mail: mac.lister@dot.gov. For legal questions or issues, please contact Robert Monniere, RITA, 202-366-5498, Robert.monniere@dot.gov, 1200 New Jersey Avenue, SE., Washington, DC 20590. Office hours for RITA are from 8 a.m. to 4:30 p.m., Eastern Standard Time, Monday through Friday, except Federal holidays. Additional information about the ITS Joint Program Office (JPO) and the PCB Program can be obtained at http://www.its.dot.gov/index.htm and http://www.pcb.its.dot.gov/default.asp. A fact sheet regarding the ITS PCB Program can be found at: http://www.its.dot.gov/factsheets/pcb_factsheet.htm.

SUPPLEMENTARY INFORMATION:

Summary of PCB Program

The ITS PCB Program is part of the ITS JPO, within USDOT, RITA. The ITS PCB Program provides comprehensive, accessible, and flexible ITS learning for the transportation industry. By using the Program, public agencies can build and sustain a capable and technically proficient ITS workforce, and transportation professionals can develop their knowledge, skills, and abilities while furthering their career paths.

The Program currently offers online courses, blended learning courses, the Talking Transportation Technology webinar series, and Peer-to-Peer exchanges. It recently partnered with the Institute of Transportation Engineers to develop ITS Standards Training; the first 18 Web-based training modules will be offered in fall 2011.

New Strategic Direction for PCB

The PCB Program is refocusing its agenda to prepare the transportation workforce to adopt new connected vehicle technologies and to take better advantage of proven ITS solutions. You can view the ITS PCB Program strategic plan online at: http://www.pcb.its.dot.gov/strat_direction_plan.asp.

The Program is responding to customer needs regarding time and budget constraints on training opportunities and the desire to use emerging social media tools to better engage and collaborate with its audience. In this context, the ITS PCB Program is seeking information about possible topics and innovative techniques for delivering ITS learning to working transportation professionals.

Subject Matter

The ITS PCB Program is interested in providing innovative learning techniques in the general area of ITS, with two areas of focus: (1) Proven ITS technologies that are ready to deploy and (2) emerging connected vehicle technology that will feature a connected transportation environment among vehicles, the infrastructure, and passengers' portable devices. Information about the ITS connected vehicle research program can be found at: http://www.its.dot.gov/connected_vehicle/connected_vehicle.htm.

Target Audience

The PCB Program serves the ITS workforce, which includes researchers, practitioners, decision makers, and emerging ITS professionals, both in the public and private arena. In the last 15 years, the Program has focused its efforts on educating transportation managers, engineers and technical staff at state and local departments of transportation and transit agencies to plan, implement, operate and maintain ITS technology investments. The Program is interested in expanding these efforts to include communicating emerging research results from the connected vehicle program to a wider audience of transportation professionals, including future ITS professionals at the college and university levels. Where possible, the Program wishes to partner with professional associations, universities, or others to deliver ITS learning to affiliated members in the most efficient and effective manner.

New Delivery Mechanisms for ITS Learning

The ITS PCB Program promotes ITS learning that is engaging, effective, and responsive to customer needs. We are seeking ideas for innovative learning techniques that are:

• Interactive;

• Collaborative—through the use of social media or other `virtual' meeting spaces;

• Designed for the adult learner;

• Internet-based to reduce time and expense;

• Targeted to specific ITS audiences;

• Results oriented with the goal of moving ITS into deployment.

The USDOT has issued this RFI to help determine the most promising technologies and applications. Responders are reminded that feedback or comments on any aspect of this notice are welcomed from all interested public, private, and academic entities. While all feedback is welcomed, the USDOT is particularly interested in feedback on the following questions. Respondents may respond to some, all, or none of these specific questions.

List of Questions

1. In what specific content areas does the transportation profession most need learning regarding ITS technologies?

2. Are there different audience needs for ITS learning? How would you segment these audiences? Examples might be by role, such as planner, engineer, decision maker, researcher, or by organization, such as state department of transportation, transit agency, universities, or private sector organizations.

3. Are there specific educational methods or techniques that the USDOT could employ to accelerate the movement of ITS technologies into deployment that would lower the cost and improve the quality of ITS learning? What are these, and how might they be implemented? Examples could be e-learning techniques, interactive games, or simulations. The learning techniques do not have to be specific to ITS, but must be adaptable to an audience of working transportation professionals.

4. The ITS JPO is particularly interested in the use of video to demonstrate ITS technologies in use for training purposes.

a. Are you aware of or do you possess video depicting the application of ITS technology, a guest speaker or expert discussing an important ITS concept, or a transportation agency representative, public official, or citizen describing the benefits of ITS technology in his or her community?

b. How might videos be incorporated into Web-based courses to better engage adult learners?

5. Are you aware of any ITS training applications that work on a mobile phone or smart phone platform? Examples might relate to traffic and weather alerts, route planning tools, or eco-driving applications. How could this ITS technology be adapted to serve as a training tool for potential ITS deployers?

6. How might social media collaboration tools be used to engage audiences in ITS learning? Examples might include using a social media site for collaboration on coursework, or enabling text messages for quick responses during an e-learning.

7. Are you aware of any learning materials beyond what has been developed by the USDOT that explain the concepts of connected vehicle technology? This technology may be based on Dedicated Short Range Communications (DSRC), other wireless technology or a combination. The Connected Vehicle Research Program has developed Vehicle-to-Vehicle and Vehicle-to-Infrastructure Test Beds. Information about these facilities may be found here: http://www.its.dot.gov/connected_vehicle/technology_testbed2.htm.

a. What kind of Web-based training should be developed to illustrate the concepts of connected vehicle technology to an audience of potential deployers?

b. What kinds of hands-on exercises could be incorporated in Web-based training to demonstrate the utility of the DSRC or commercial broadband equipment in enabling connected vehicle concepts?

c. How might the Vehicle-to-Vehicle and Vehicle-to-Infrastructure Test Beds be used as teaching tools over the next five years?

Issued in Washington, DC, on the 21st day of July 2011.
John Augustine,
Managing Director, ITS Joint Program Office.

[FR Doc. 2011-19090 Filed 7-27-11; 8:45 am]

BILLING CODE 4910-HY-P